DEPARTMENT OF AGRICULTURE

Forest Service

Alaska Region Supplement to Forest Service Manual 2720: Special Uses; Outfitting and Guiding Permit for Strictly Point-To-Point Commercial Transportation To, From, and Within the Mendenhall Glacier Visitor Center Subunit of the Mendenhall Glacier Recreation Area

AGENCY: Forest Service, USDA.

ACTION: Extension of comment period.

SUMMARY: The United States Department of Agriculture (USDA) Forest Service is seeking public comment on a proposed revision to a directive supplement that would require an outfitting and guiding permit for strictly point-to-point commercial transportation to, from, and within the Mendenhall Glacier Visitor Center subunit of the Mendenhall Glacier Recreation Area (Visitor Center subunit) in the Alaska Region of the Forest Service (Alaska Region). Comment is also requested on the revision to the Forest Service's approved information collection for outfitting and guiding permits.

DATES: The comment period for the proposed rule published June 24, 2021, at 86 FR 33211, is extended. Comments should be received on or before August 27, 2021.

ADDRESSES: The proposed revision to the directive supplement is available at, and comments may be submitted electronically to, https://cara.ecosystem-management.org/Public/CommentInput?project=ORMS-2314. Written comments may be mailed to Jennifer Berger, Alaska Region Public Services Program Leader (RLM), P.O. Box 21628, Room 535b, Juneau, AK 99802-1628. All timely comments, including names and addresses, will be placed in the record and will be available for public inspection and copying. The public may inspect comments received at https://cara.ecosystem-management.org/Public/ReadingRoom?project=ORMS-2314.

FOR FURTHER INFORMATION CONTACT: Jennifer Berger, Alaska Region Public Services Program Leader, at 907-586-8843 or jennifer.berger@usda.gov. Individuals using telecommunication devices for the hearing-impaired may call the Federal Information Relay Service at 800-877-8339 between 8 a.m. and 8 p.m. Eastern Daylight Time, Monday through Friday.

Dated: August 2, 2021.
Tina Johna Terrell,
Associate Deputy Chief, National Forest System.

[FR Doc. 2021-16710 Filed 8-4-21; 8:45 am]

BILLING CODE 3411-15-P